DEPARTMENT OF HOMELAND SECURITY

U.S. Customs and Border Protection

[Docket No. USCBP-2014-0025]

Advisory Committee on Commercial Operations of Customs and Border Protection (COAC)

AGENCY: U.S. Customs and Border Protection, Department of Homeland Security (DHS).

ACTION: Committee Management; Notice of Federal Advisory Committee Meeting.

SUMMARY: The Advisory Committee on Commercial Operations of Customs and Border Protection (COAC) will meet on October 7, 2014, in Washington, DC. The meeting will be open to the public.

DATES: The Advisory Committee on Commercial Operations of Customs and Border Protection (COAC) will meet on Tuesday, October 7, from 1:00 p.m. to 4:00 p.m. EST. Please note that the meeting may close early if the committee has completed its business.

Pre-Registration: Meeting participants may attend either in person or via webinar after pre-registering using a method indicated below:

— For members of the public who plan to attend the meeting in person, please register either online at https://apps.cbp.gov/te_reg/index.asp?w=28; by email to tradeevents@dhs.gov; or by fax to 202-325-4290 by 5:00 p.m. EST on October 1, 2014. You must register prior to the meeting in order to attend the meeting in person. Please refer to the ADDRESSES section below for more details.

— For members of the public who plan to participate via webinar, please register online at https://apps.cbp.gov/te_reg/index.asp?w=29 by 5:00 p.m. EST on October 3, 2014.

Feel free to share this information with other interested members of your organization or association.

Members of the public who are pre-registered and later require cancellation, please do so in advance of the meeting by accessing one (1) of the following links: https://apps.cbp.gov/te_reg/cancel.asp?w=28 to cancel an in person registration, or https://apps.cbp.gov/te_reg/cancel.asp?w=29 to cancel a webinar registration.

ADDRESSES: The meeting will be held at the U.S. Department of Agriculture (USDA) at 1400 Independence Avenue SW., South Cafeteria Rooms 1, 2, and 3, Washington, DC 20024.

All visitors to the U.S. Department of Agriculture (USDA) should proceed through the main lobby to the security checkpoint. You must register prior to the meeting in order to attend the meeting in person. After you have registered, your name will be placed on the meeting attendance list at the U.S. Department of Agriculture (USDA) building security check point. Your name must be on the attendance list at the security check point in order to enter the building. There will be no exceptions made for individuals not listed on the attendance list. There will be signage posted directing visitors to the location of South Cafeteria, Room 1, 2, and 3.

For information on facilities or services for individuals with disabilities or to request special assistance at the meeting, contact Ms. Wanda Tate, Office of Trade Relations, U.S. Customs and Border Protection at 202-344-1661 as soon as possible.

To facilitate public participation, we are inviting public comment on the issues to be considered by the committee prior to the formulation of recommendations as listed in the “Agenda” section below.

Comments must be submitted in writing no later than October 1, 2014, and must be identified by Docket No. USCBP-2014-0025, and may be submitted by one of the following methods:

• Federal eRulemaking Portal: http://www.regulations.gov. Follow the instructions for submitting comments.

• Email: Tradeevents@dhs.gov. Include the docket number in the subject line of the message.

• Fax: 202-325-4290

• Mail: Ms. Wanda Tate, Office of Trade Relations, U.S. Customs and Border Protection, 1300 Pennsylvania Avenue NW., Room 3.5A, Washington, DC 20229.

Instructions: All submissions received must include the words “Department of Homeland Security” and the docket number for this action. Comments received will be posted without alteration at http://www.regulations.gov, including any personal information provided. Do not submit personal information to this docket.

Docket: For access to the docket or to read background documents or comments, go to http://www.regulations.gov and search for Docket Number USCBP-2014-0025. To submit a comment, see the link on the Regulations.gov Web site for “How do I submit a comment?” located on the right hand side of the main site page.

There will be multiple public comment periods held during the meeting on October 7, 2014. Speakers are requested to limit their comments to two (2) minutes or less to facilitate greater participation. Contact the individual listed below to register as a speaker. Please note that the public comment period for speakers may end before the time indicated on the schedule that is posted on the CBP Web page, http://www.cbp.gov/trade/stakeholder-engagement/coac, at the time of the meeting.

FOR FURTHER INFORMATION CONTACT: Ms. Wanda Tate, Office of Trade Relations, U.S. Customs and Border Protection, 1300 Pennsylvania Avenue NW., Room 3.5A, Washington, DC 20229; telephone 202-344-1440; facsimile 202-325-4290.

SUPPLEMENTARY INFORMATION: Notice of this meeting is given under the Federal Advisory Committee Act, 5 U.S.C. Appendix. The Advisory Committee on Commercial Operations of Customs and Border Protection (COAC) provides advice to the Secretary of Homeland Security, the Secretary of the Treasury, and the Commissioner of U.S. Customs and Border Protection (CBP) on matters pertaining to the commercial operations of CBP and related functions within Department of Homeland Security and the Department of the Treasury.

Agenda

The Advisory Committee on Commercial Operations of Customs and Border Protection (COAC) will hear from the following project leaders and subcommittees on the topics listed below and then will review, deliberate, provide observations, and formulate recommendations on how to proceed on those topics:

1. The COAC Survey Team: Review and discuss the preliminary results of the COAC 2014 Trade Efficiency Survey, which combined exports and imports into one survey.

2. The Exports Subcommittee: Review and discuss the findings from two of the seven planned sub-workgroups (Air Manifest and Commodity Licensing) formed under the Export Process Work Group (EPWG), and the collaboration between the Bureau of Industry and Security's Federal Advisory Committee, the President's Export Council Subcommittee on Export Administration (PECSEA).

3. The One U.S. Government at the Border (1USG) Subcommittee: Review and discuss the progress of the Import Mapping Working Group and potential collaboration with the Border Inter-Agency Executive Council (BIEC). The 1USG Food and Drug Administration Working Group will provide findings and recommendations.

4. The Trade Enforcement and Revenue Collection Subcommittee: Review and discuss the recommendations on the Intellectual Property Rights (IPR) Working Group's work on the voluntary disclosure proposal and its utility for trade targeting; report and recommendations of the AD/CVD Working Group; and report on the Bonds Working Group's discussions on the concept of e-bonds.

5. The Trusted Trader Subcommittee: Update and discuss the C-TPAT Exporter Entity and the Trusted Trader Program pilot.

6. The Trade Modernization Subcommittee: Updates and discussion on ACE, Centers of Excellence and Expertise as well as Role of the Customs Broker activities will take place.

7. The Global Supply Chain Subcommittee: Updates and discussion regarding the Beyond the Border activities with Canada and 21st Century activities with Mexico will take place.

Dated: September 16, 2014.
Maria Luisa Boyce,
Senior Advisor for Private Sector Engagement, Office of Trade Relations.

[FR Doc. 2014-22349 Filed 9-18-14; 8:45 am]

BILLING CODE 9111-14-P